DEPARTMENT OF COMMERCE

International Trade Administration

The Manufacturing Council: Meeting

AGENCY: International Trade Administration, U.S. Department of Commerce.

ACTION: Notice of a meeting.

SUMMARY: The Manufacturing Council will hold a meeting to deliberate for approval a draft letter of recommendation on Sustainable Manufacturing metrics.

DATES: September 23, 2008.

Location: Rochester, NY.

Additional Information: A supplemental notice will be issued in the near future with the exact address and time of the meeting. The date and address will also be posted on the Council's Web site at http://www.manufacturing.gov/council as soon as they are available.

FOR FURTHER INFORMATION CONTACT: The Manufacturing Council Executive Secretariat, Room 4043, Washington, DC 20230 (Phone: 202-482-1369), or visit the Council's Web site at http://www.manufacturing.gov/council.

Dated: September 5, 2008.
Kate Sigler,
Executive Secretary, The Manufacturing Council.

[FR Doc. E8-21073 Filed 9-10-08; 8:45 am]

BILLING CODE 3510-DR-P